DEPARTMENT OF THE TREASURY

Internal Revenue Service

26 CFR Part 1

[REG-140379-02; REG-142599-02]

RIN 1545-BC07; 1545-BB23

General Allocation and Accounting Regulations Under Section 141; Correction

AGENCY: Internal Revenue Service (IRS), Treasury.

ACTION: Correction to notice of proposed rulemaking and notice of public hearing.

SUMMARY: This document contains corrections to a notice of proposed rulemaking and notice of public hearing that was published in the Federal Register on Tuesday, September 26, 2006 (71 FR 56072) relating to the allocation of, and accounting for, tax-exempt bond proceeds for purposes of the private activity bond restrictions that apply under section 141 of the Internal Revenue Code (Code) and that apply in modified form to qualified 501(c)(3) bonds under section 145 of the Code.

FOR FURTHER INFORMATION CONTACT: Johanna Som Som de Cerff (202) 622-3980 (not a toll-free number).

SUPPLEMENTARY INFORMATION:

Background

The notice of proposed rulemaking and notice of public hearing (REG-140379-02; REG-142599-02) that is the subject of these corrections are under section 141 of the Internal Revenue Code.

Need for Correction

As published, the notice of proposed rulemaking and notice of pubic hearing (REG-140379-02; REG-142599-02) contains errors that may prove to be misleading and are in need of clarification.

Correction of Publication

Accordingly, the notice of proposed rulemaking and notice of public hearing (REG-140379-02; REG-142599-02) that was the subject of FR Doc. 06-8202 is corrected as follows:

1. On page 56074, column 1, in the preamble under the paragraph heading, “Explanation of Provisions”, first paragraph of the column, line 5 from the bottom of the paragraph, the language “uses, for example, governmental use and” is corrected to read “uses, that is, governmental use and”.

§ 1.141-6 [Corrected]

2. On page 56080, column 3, § 1.141-6(d)(4)(i), line 18, the language “in this paragraph (d)(4)(ii) of this” is corrected to read “in paragraph (d)(4)(ii) of this”.

La Nita VanDyke,
Chief, Publications and Regulations Branch, Legal Processing Division, Office of Associate Chief Counsel, (Procedure and Administration).

[FR Doc. E6-19789 Filed 11-21-06; 8:45 am]

BILLING CODE 4830-01-P